SOCIAL SECURITY ADMINISTRATION

Agency Announcement

The Social Security Administration (SSA) is announcing the following information about one of its information collections:

Consent Based Social Security Number Verification Service (CBSV)—0960-0760

The Social Security Administration (SSA) is hereby giving notice that effective October 1, 2009, the transaction fee for SSA's CBSV service will increase to $5.00 per transaction.

CBSV is a fee-based service that provides instant, automated Social Security number (SSN) verification to private businesses and government agencies who obtain a valid, signed consent form from the SSN holder. These parties may only use verification results for the reason that the number holder specifies on the consent form. CBSV can easily handle large volume requests and is currently open for enrollment.

We charge a fee to cover the cost of providing this service. To use CBSV, companies must pay a one-time, non-refundable enrollment fee of $5,000 and a transaction fee per SSN verification request. The transaction fee is presently 56 cents based on our assumption that we would receive 5.7 million SSN verification requests annually. That volume, however, did not materialize, and we now estimate receiving 1 million requests. Effective October 1, 2009, the transaction fee will increase to $5.00 due to significantly fewer requests. Based on the revised estimate of 1 million annual transactions, this adjustment is necessary to recover our costs to develop and operate the system. Periodically, we will recalculate CBSV operational costs, review the number of transactions, and adjust the transaction fee as needed. We will notify subscribers in writing of any change in the transaction fee.

Dated: July 15, 2009.
John Biles,
Reports Clearance Officer, Center for Reports Clearance, Social Security Administration.

[FR Doc. E9-17225 Filed 7-17-09; 8:45 am]

BILLING CODE 4191-02-P